DEPARTMENT OF DEFENSE

Office of the Secretary

[Docket ID: DOD-2008-OS-0089]

Privacy Act of 1974; System of Records

AGENCY: Office of the Inspector General, DoD.

ACTION: Notice to amend two systems of records.

SUMMARY: The Office of the Inspector General (OIG) is amending two systems of records notices in its existing inventory of record systems subject to the Privacy Act of 1974 (5 U.S.C. 552a), as amended.

DATES: This proposed action will be effective without further notice on September 22, 2008 unless comments are received which result in a contrary determination.

ADDRESSES: Send comments to Chief, FOIA/PA Office, Inspector General, Department of Defense, 400 Army Navy Drive, Room 201, Arlington, VA 22202-4704.

FOR FURTHER INFORMATION CONTACT: Mr. Keith Mastromichalis at (703) 604-8723.

SUPPLEMENTARY INFORMATION: The Office of the Inspector General (OIG) systems of records notices subject to the Privacy Act of 1974 (5 U.S.C. 552a), as amended, have been published in the Federal Register and are available from the address above.

The specific changes to the records systems being amended are set forth below followed by the notice, as amended, published in its entirety. The proposed amendments are not within the purview of subsection (r) of the Privacy Act of 1974 (5 U.S.C. 552a), as amended, which requires the submission of a new or altered system report.

Dated: August 15, 2008.
Patricia Toppings,
Federal Register Liaison Officer, Department of Defense.

CIG-9

System Name:

Security Management and Access Files (May 9, 2003, 68 FR 24932).

Changes:

* * * * *

System Name:

Delete entry and replace with “Automated Security Administration System Records.”

* * * * *

Systems Location:

Delete entry and replace with “Office of Security, Office of Administration & Management, Office of the Inspector General of the Department of Defense, 400 Army Navy Drive, Arlington, VA 22202-4704.”

* * * * *

System manager(s) and address:

Delete entry and replace with “Director, Office of Security, Office of Administration & Management, Office of the Inspector General of the Department of Defense, 400 Army Navy Drive, Arlington, VA 22202-4704.”

* * * * *

CIG-09

System name:

Automated Security Administration System Records.

System location:

Office of Security, Office of Administration & Management, Office of the Inspector General of the Department of Defense, 400 Army Navy Drive, Arlington, VA 22202-4704.

Categories of individuals covered by the system:

All civilian, contractor, and military personnel of the Office of the Inspector General of the Department of Defense (OIG DoD) who have been found eligible for employment/assignment, and who qualify and are eligible to occupy sensitive positions, perform sensitive duties, or for access to classified information.

Categories of records in the system:

Records of each individual associated with personnel security functions. These records also include, but are not limited to, individual's name; Social Security Number (SSN); date and place of birth; current employment status; duty address; security training; an individual's qualification and eligibility to occupy sensitive positions, perform sensitive duties, or for access to classified information; certificates of clearance; security violations; identification badge records, courier authorizations, and access control records.

Authority for maintenance of the system:

E.O. 10450, Security Requirements for Government Employment, as amended; DoD 5200.2-R, DoD Personnel Security Program Regulation; and E.O. 9397 (SSN).

Purpose(s):

This record system is used by OIG Management officials to control the number of, and level of, sensitive positions; identify personnel assigned to these positions; and to determine whether personnel have been granted a clearance and the level of such clearance or access authorized.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information on the clearance/eligibility status of individuals may be provided to the appropriate clearance access officials of other agencies when necessary in the course of official business. Certifications of clearance are issued to officials of other agencies when necessary in the course of official business.

The DoD “Blanket Routine Uses” set forth at the beginning of the OIG's compilation of systems of records notices also apply to this system.

Policies and practices for storing, retrieving, accessing, retaining, and disposing of records in the system:

Storage:

Records maintained in folders; computer printouts and automated data base files.

Retrievability:

Information is retrieved by individual's name, Social Security Number (SSN), and date and place of birth.

Safeguards:

Access to building is protected by guards requiring positive identification for admission. Access to computerized files is password protected, and is limited to authorized users having a need-to-know in the performance of their official duties.

Retention and disposal:

Paper records are destroyed when superseded, obsolete or upon notification of death, or no later than 5 years after transfer or separation of the individual.

Electronic records are deleted after dissemination, revision or updating is complete, or within 180 days after the paper copy has been produced.

System manager(s) and address:

Director, Office of Security, Office of Administration & Management, Office of the Inspector General of the Department of Defense, 400 Army Navy Drive, Arlington, VA 22202-4704.

Notification procedure:

Individuals seeking to determine whether information about themselves is contained in this system of records should address written inquiries to the Chief, Freedom of Information Act/Privacy Act Office, 400 Army Navy Drive, Arlington, VA 22202-4704.

Written request should contain the individual's full name, Social Security Number (SSN), date and place of birth, current address and telephone numbers of the individual requester.

Record access procedures:

Individuals seeking to determine whether information about themselves is contained in this system of records should address written inquiries to the Chief, Freedom of Information Act/Privacy Act Office, 400 Army Navy Drive, Arlington, VA 22202-4704.

Written request should contain the individual's full name, Social Security Number (SSN), date and place of birth, current address and telephone numbers of the individual requester.

Contesting record procedures:

The OIG's rules for accessing records and for contesting contents and appealing initial agency determinations are published in 32 CFR part 312 or may be obtained from the system manager.

Record source categories:

Certificates of clearance and/or record of personnel security investigations which are completed during a review of reports of investigations conducted by the Department of Defense and other Federal investigative organizations. Also, personnel security files are maintained on individuals.

Exemptions claimed for the system:

None.

CIG-22

System Name:

OIG DoD Badge and Credentials (October 14, 2003, 68 FR 59165).

Changes:

* * * * *

System Name:

Delete entry and replace with “Identicard Systems Records.”

Systems Location:

Delete entry and replace with “Office of Security, Office of Administration & Management, Office of the Inspector General of the Department of Defense, 400 Army Navy Drive, Arlington, VA 22202-4704.”

* * * * *

System manager(s) and address:

Delete entry and replace with “Director, Office of Security, Office of Administration & Management, Office of the Inspector General of the Department of Defense, 400 Army Navy Drive, Arlington, VA 22202-4704.”

* * * * *

CIG-22

System name:

Identicard Systems Records.

System location:

Office of Security, Office of Administration & Management, Office of the Inspector General of the Department of Defense, 400 Army Navy Drive, Arlington, VA 22202-4704.

Categories of individuals covered by the system:

Individuals who are granted/issued an OIG DoD badge and/or credential, to include all accredited OIG DoD Special Agents.

Categories of records in the system:

Records containing personal information consisting of an individual's name, Social Security Number (SSN), letters of authorization to issue badge and/or credential, badge and credential receipts, badge listing, badge and/or credential inspection reports, and badge and/or credential number assigned to OIG DoD employee and/or Special Agent.

Authority for maintenance of the system:

The Inspector General Act of 1978, (Pub. L. 95-452), as amended; 18 U.S.C. 499, Military naval or official passes; 18 U.S.C. 506, Seals of the department or agencies; 18 U.S.C. 701, Official badges, identification cards, other insignia; 10 U.S.C. 133, Secretary of Defense; DoD Directive 5106.1, Inspector General of the Department of Defense; OIG DoD DCIS Special Agents Manual; OIG Instruction 1000.1, Employee Identification Program; and E.O. 9397 (SSN).

Purpose(s):

To issue and control the badge and/or credential assigned to an OIG DoD employee and/or Special Agent. Used only by OIG DoD to identify specifically to which individual each badge and/or credential is assigned, to provide for orderly update of badge and/or credentials and to ensure turn in of badge and/or credentials whenever accreditation is terminated.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the OIG's compilation of systems of records notices also apply to this system.

Policies and practices for storing, retrieving, accessing, retaining, and disposing of records in the system:

Storage:

Paper records in file folder and electronic storage media.

Retrievability:

Retrieved by individual's name.

Safeguards:

Paper and electronic records are stored in locked filing cabinets and stored in a limited access area. Building is locked and guarded during non-duty hours. Only those individuals with a need to know access the records. Access to computer records are password protected.

Retention and disposal:

Paper records and computer disks are to be retained until completion of the overall validation process and data analysis, and then destroyed. When badge and credentials are turned in, records are destroyed 3 months after turn in.

System manager(s) and address:

Director, Office of Security, Office of Administration & Management, Office of the Inspector General of the Department of Defense, 400 Army Navy Drive, Arlington, VA 22202-4704.

Notification procedure:

Individuals seeking to determine whether information about themselves is contained in this system of records should address a written request to the Chief, Freedom of Information Act/Privacy Act Office, 400 Army Navy Drive, Arlington, VA 22202-4704.

Written request should contain the individual's full name, current address, telephone number, and the request must be signed.

Record access procedures:

Individuals seeking to access information about themselves contained in this system of records should address a written request to the Chief, Freedom of Information Act/Privacy Act Office, 400 Army Navy Drive, Arlington, VA 22202-4704.

Written request should contain the individual's full name, current address, telephone number, and the request must be signed.

Contesting record procedures:

The OIG's rules for accessing records and for contesting contents and appealing initial agency determinations are published in 32 CFR part 312 or may be obtained from the system manager.

Record source categories:

Information is obtained from individual personnel records and issued badge and credentials.

Exemptions claimed for the system:

None.

[FR Doc. E8-19507 Filed 8-21-08; 8:45 am]

BILLING CODE 5001-06-P